DEPARTMENT OF THE INTERIOR

Bureau of Land Management

[UT 020-1430-ES]

Notice of Intent To Amend the Randolph Management Framework Plan

AGENCY: Bureau of Land Management, Interior.

ACTION: Notice of intent.

SUMMARY: This notice is to advise the public that the Bureau of Land Management (BLM) is proposing to amend the Randolph Management Framework Plan (MFP) affecting public lands located in the Rich County, Utah. This proposed amendment is being conducted in conjunction with a Coordinated Resource Management Plan effort with the county and will address a variety of issues related to rangeland health, wildlife, and livestock management. The amendment will also evaluate the potential for wind energy development in the county. Several preliminary issues have been identified including, but not limited to, rangeland health and riparian management, wildlife habitat for sagebrush obligate species and fisheries, and visual resource management.

DATES: The comment period for the proposed plan amendment will commence with publication of this notice. Comments must be submitted on or before January 25, 2005. Notice of Public Meetings will be published in local newspapers.

ADDRESSES: If you wish to participate in this planning effort, identify issues of concern, or provide ideas that could assist the BLM and its partners with alternative management strategies for analysis purposes, or request additional information, you may do so by any of several methods. You may mail, hand deliver, or fax your written comments to: Curtis Warrick, Bureau of Land Management, Renewable Resources Advisor, Salt Lake Field Office, 2370 South 2300 West, Salt Lake City, UT 84119, Fax: 801-977-4397. Upon request, comments, including names and street addresses of respondents, will be available for public review at the Salt Lake Field Office during regular business hours 8 a.m. to 4 p.m., Monday through Friday, except holidays.

Individual respondents may request confidentiality. If you wish to withhold your name or street address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety. The current MFP as well as all other documents relevant to this planning process are available for public review at the Salt Lake Field Office, 2370 South 2300 West, Salt Lake City, UT 84119 Monday through Friday (excluding legal holidays), from 8 a.m. to 4 p.m.

FOR FURTHER INFORMATION CONTACT: Curtis Warrick, Salt Lake Field Office, 2370 South 2300 West, Salt Lake City, UT 84119. Existing planning documents and information are available at the above address or telephone (801) 977-4332.

SUPPLEMENTARY INFORMATION: The proposed amendment to the MFP and associated environmental assessment (EA) would update the Randolph MFP which was completed in 1980. It is anticipated that this process will include both resource management planning and implementation level decisions. This MFP amendment would address the following planning level decisions: Identification of goals, objectives, and or desired future conditions for sagebrush steppe ecosystems and riparian resources, potential vegetation enhancement strategies, and address the potential/criteria for potential wind energy development in Rich County. The EA would also address the following implementation level decisions: Development of pro-active grazing strategies to fulfill permitting requirements on 18 grazing allotments and a wildlife/livestock cooperative management area in order to enhance riparian and sagebrush steppe ecosystems. This MFP amendment is being conducted concurrently with the Rich County Coordinated Resource Management Plan (CRMP); an addendum to the Rich County Comprehensive Plan. Throughout this process, BLM will work collaboratively with Rich County and a broad base of CRMP partners including but not limited to: the Wasatch-Cache National Forest, Utah Wild Project, Audubon Society, Utah State University, Cooperative Extension Service, Trout Unlimited, ranching community members, and Utah State Department of Wildlife Resources.

Dated: October 27, 2004.
Sally Wisely,
State Director.

[FR Doc. 04-26152 Filed 11-24-04; 8:45 am]

BILLING CODE 4310-$$-P